DEPARTMENT OF JUSTICE

Drug Enforcement Administration

Manufacturer of Controlled Substances Notice of Application Cody Laboratories, Inc.

Pursuant to 21 CFR 1301.33(a), this is notice that on June 12, 2013, Cody Laboratories, Inc., 601 Yellowstone Avenue, Cody, Wyoming 82414, made application by renewal to the Drug Enforcement Administration (DEA) to be registered as a bulk manufacturer of the following basic classes of controlled substances:

Drug | Schedule
Dihydromorphine (9145) | I
Amphetamine (1100) | II
Methamphetamine (1105) | II
Methylphenidate (1724) | II
Amobarbital (2125) | II
Pentobarbital (2270) | II
Secobarbital (2315) | II
4-Anilino-N-phenethyl-4-piperidine (ANPP) (8333) | II
Phenylacetone (8501) | II
Cocaine (9041) | II
Codeine (9050) | II
Dihydrocodeine (9120) | II
Oxycodone (9143) | II
Hydromorphone (9150) | II
Diphenoxylate (9170) | II
Ecgonine (9180) | II
Hydrocodone (9193) | II
Meperidine (9230) | II
Methadone (9250) | II
Morphine (9300) | II
Thebaine (9333) | II
Oxymorphone (9652) | II
Alfentanil (9737) | II
Remifentanil (9739) | II
Sufentanil (9740) | II
Tapentadol (9780) | II
Fentanyl (9801) | II

The company plans on manufacturing the listed controlled substances in bulk for sale to its customers.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODW), 8701 Morrissette Drive, Springfield, Virginia 22152; and must be filed no later than March 11, 2014.

Dated: December 31, 2013.
Joseph T. Rannazzisi,
Deputy Assistant Administrator, Office of Diversion Control, Drug Enforcement Administration.

[FR Doc. 2014-00204 Filed 1-9-14; 8:45 am]

BILLING CODE 4410-09-P